DEPARTMENT OF COMMERCE

National Oceanic and Atmospheric Administration

Interagency Marine Debris Coordinating Committee Meeting

AGENCY: National Ocean Service, National Oceanic and Atmospheric Administration (NOAA), Department of Commerce.

ACTION: Notice of public meeting.

SUMMARY: Notice is hereby given of a virtual public meeting of the Interagency Marine Debris Coordinating Committee (IMDCC). IMDCC members will discuss Federal marine debris activities, with a particular emphasis on the topics identified in the section, Matters To Be Considered.

DATES: The virtual public meeting will be held on January 29, 2026, from 1 p.m. to 2 p.m. Eastern Standard Time (EST).

ADDRESSES: The meeting will be held virtually using Google Meet. You can connect to the meeting using the website or phone number provided:

Meeting link: https://meet.google.com/jct-mevc-wpv

Phone: (US) +1 631-260-1193 PIN: 887 629 280#

Attendance will be limited to the first 500 individuals to join the virtual meeting room. Refer to the IMDCC website at https://marinedebris.noaa.gov/our-work/IMDCC for the most up-to-date information on the agenda and instructions regarding how to participate.

FOR FURTHER INFORMATION CONTACT: Sophia Maginnes, Communication Support Specialist, Marine Debris Program; Email Sophia.Maginnes@noaa.gov; Google Voice (301) 458-0362 or visit the IMDCC website at https://marinedebris.noaa.gov/our-work/IMDCC.

SUPPLEMENTARY INFORMATION:

I. Background

The IMDCC is a multi-agency body responsible for coordinating a comprehensive program of marine debris research and activities among Federal agencies, in cooperation and coordination with non-governmental organizations, industry, academia, States, Tribes, and other nations, as appropriate. Representatives meet to share information, assess and promote best management practices, and coordinate the Federal Government's efforts to address marine debris.

The Marine Debris Act establishes the IMDCC (33 U.S.C. 1954). The IMDCC submits biennial progress reports to Congress with updates on activities, achievements, strategies, and recommendations. NOAA serves as the Chairperson of the IMDCC.

The meeting will be open to public attendance on January 29, 2026, from 1 p.m. to 2 p.m. EST. There will not be a public comment period. The meeting will not be recorded.

II. Matters To Be Considered

The open meeting will include a presentation from the NOAA Marine Debris Program on the launch of the new Abandoned and Derelict Vessel (ADV) National Database. The purpose of the database is to provide the public the opportunity to report ADVs, to help identify the scope of the problem, and track prevention and removal efforts. The agenda topics described are subject to change. The latest version of the agenda will be posted at https://marinedebris.noaa.gov/our-work/IMDCC.

III. Special Accommodations

The meeting is accessible to people with disabilities. Closed captioning will be available. Requests for other auxiliary aids should be directed to Sophia Maginnes, at sophia.maginnes@noaa.gov or via Google Voice (301) 458-0362, by January 20, 2026.

Authority: The Interagency Marine Debris Coordinating Committee (IMDCC) is established by the Marine Debris Act, 33 U.S.C. 1954, as amended.

Sean Corson,
Director, National Centers for Coastal Ocean Science and Office of Response and Restoration, National Ocean Service, National Oceanic and Atmospheric Administration.

[FR Doc. 2026-00050 Filed 1-6-26; 8:45 am]

BILLING CODE 3510-JS-P